DEPARTMENT OF COMMERCE

National Oceanic and Atmospheric Administration

RIN 0648-XE87

Fisheries of the Caribbean, Gulf of Mexico, and South Atlantic; Snapper-Grouper Fishery off the Southern Atlantic States; Amendment 18

AGENCY: National Marine Fisheries Service (NMFS), National Oceanic and Atmospheric Administration (NOAA), Commerce.

ACTION: Notice of intent (NOI) to prepare a draft environmental impact statement (DEIS); notice of scoping meetings; request for comments.

SUMMARY: The South Atlantic Fishery Management Council (Council) intends to prepare a DEIS to assess the impacts on the natural and human environment of the management measures proposed in its draft Amendment 18 to the Fishery Management Plan for the Snapper-Grouper Fishery of the South Atlantic Region (FMP).

DATES: Written comments on the scope of the issues to be addressed in the DEIS will be accepted until February 22, 2008, at 5 p.m.

ADDRESSES: Comments may be sent by any of the following methods, mail: Kate Michie, NMFS, Southeast Regional Office, 263 13th Avenue South, St. Petersburg, FL 33701; phone: 727-824-5305; fax: 727-824-5308; e-mail: 0648-XE87@noaa.gov. Scoping documents are available from the Council's Web site at www.safmc.net.

FOR FURTHER INFORMATION CONTACT: Kim Iverson, Public Information Officer, South Atlantic Fisheries Management Council, 4055 Faber Place Drive, Suite 201, North Charleston, SC 29405; phone: 843-571-4366, toll free 1-866-SAFMC-10; fax: 843-769-4520; e-mail: kim.iverson@safmc.net.

SUPPLEMENTARY INFORMATION: The snapper-grouper fishery of the South Atlantic region in the exclusive economic zone is managed under the FMP. The FMP was prepared by the Council and implemented by NMFS under the authority of the Magnuson-Stevens Fishery Conservation and Management Act by regulations at 50 CFR part 622. Of the 98 species managed by the Council, 73 of these are included in the snapper-grouper management complex.

The mixed species nature of this fishery poses a significant management challenge. Initially, FMP regulations consisted of minimum sizes, gear restrictions, and a provision for the designation of special management zones. To address overcapitalization in the fishery, the Council established a permit program to limit effort. However, recent ecological occurrences and regulatory requirements have decreased the ability for fishermen to maintain profitability in the South Atlantic snapper-grouper fishery. Management options that enable a reduction in fleet size are expected to increase total fleet profitability compared to the status quo. The Council is considering use of a limited access privilege (LAP) program and other management tools for the South Atlantic commercial snapper-grouper fishery.

In December 2006, the Council passed a motion to consider application of a LAP program for the South Atlantic commercial snapper-grouper fishery in Amendment 18. The LAP Committee met January 23-24, 2007 to draft goals and objectives for a possible LAP program, discuss the membership and structure of a LAP Exploratory Workgroup, and develop an action plan that would outline how the Council should explore use of a LAP program for this fishery. In 2007, the Limited Access Program Exploratory Workgroup was tasked with developing a potential plan for using a LAP program in the commercial snapper-grouper fishery. The group has met several times and has considered a LAP program as well as other programs that look to reduce capacity in the fishery.

This NOI is intended to inform the public of the preparation of a DEIS in support of Amendment 18 to the FMP. The DEIS will evaluate measures to reduce capacity in the South Atlantic snapper-grouper fishery. Following publication of this NOI, the Council will conduct public scoping meetings to determine the range of issues to be addressed in the DEIS and the associated Amendment 18.

Following consideration of public scoping comments, the Council plans to begin preparation of the draft Snapper-Grouper Amendment 18/DEIS. The Council and its Scientific and Statistical Committee will review the draft Snapper-Grouper Amendment 18/DEIS in 2008. If the Council approves the document, public review will take place in late 2008. A comment period on the DEIS is planned, which will include public hearings to receive comments. A Federal Register notice will announce the availability of the DEIS associated with this amendment, as well as a 45-day public comment period, pursuant to regulations issued by the Council on Environmental Quality for implementing the National Environmental Policy Act and to NOAA's Administrative Order 216-6. The Council will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

Scoping Meetings, Times, and Locations

All meetings will begin at 2 p.m. In addition to Amendment 18, the Council intends to scope three other amendments at this series of meetings. Separate NOIs have been prepared for each amendment. The meetings will be physically accessible to people with disabilities. Requests for information packets or for sign language interpretation or other auxiliary aids should be directed to the Council (see ADDRESSES).

Monday, February 4, 2008—The Mutiny Hotel, 2951 South Bayshore Drive, Coconut Grove, FL 33133; phone: 305-441-2100.

Tuesday, February 5, 2008—Radisson Resort at the Port, 8701, Astronaut Boulevard, Cape Canaveral, FL 32920; phone: 321-784-0000.

Wednesday, February 6, 2008—Quality Inn, 125 Venure Drive, Brunswick, GA 31525; phone: 912-265-4600.

Thursday, February 7, 2008—Sheraton New Bern, 100 Middle Street, New Bern, NC 28560; phone: 252-638-3585.

Wednesday, February 20, 2008—Hilton Garden Inn, 5265 International Boulevard, North Charleston, SC 29418; phone: 843-308-9331.

Authority: 16 U.S.C. 1801 et seq.

Dated: January 16, 2008.
Emily H. Menashes,
Acting Director, Office of Sustainable Fisheries, National Marine Fisheries Service.

[FR Doc. E8-1045 Filed 1-18-08; 8:45 am]

BILLING CODE 3510-22-S